DEPARTMENT OF COMMERCE

Membership of the Departmental Performance Review Board

AGENCY: Department of Commerce.

ACTION: Notice of membership of Departmental Performance Review Board.

SUMMARY: In accordance with 5 U.S.C. 4313(c)(4), Department of Commerce (DOC) announces the appointment of persons to serve as members of the Departmental Performance Review Board (DPRB). The DPRB is responsible for reviewing performance appraisals and ratings of Senior Executive Service (SES) members and serves as the higher level review for executives who report to an appointing authority. The appointment of these members to the DPRB will be for periods of 24 months.

DATES: The effective date of service of appointees to the Department of Performance Review Board is upon publication of this notice.

FOR FURTHER INFORMATION CONTACT: Janet C. Hoffheins, Deputy Director for Human Resources Management, Office of Human Resources Management, Office of the Director, 14th and Constitution Ave, NW., Washington, DC 20230, (202) 482-4807.

SUPPLEMENTARY INFORMATION: The names and position titles of the members of the DPRB are set forth below by organization:

2003-2005 DPRB Membership

Office of the Secretary

Fred L. Schwien, Director, Executive Secretariat.

Office of General Counsel

Eleanor R. Lewis, Chief Counsel for International Commerce.

Roxie J. Jones, Chief Counsel for Economic Affairs.

Office of the Chief Financial Officer and Assistant Secretary for Administration

Richard Yamamoto, Director, Office of Security.

Bureau of Industry and Security

Miriam Cohen, Director of Administration.

Economic Development Administration

David M. Bearden, Deputy Assistant Secretary for Economic Development.

Economics and Statistics Administration

James K. White, Associate Under Secretary for Management.

Hermann Habermann, Deputy Director, Bureau of the Census.

Marvin D. Raines, Associate Director for Field Operations, Bureau of the Census.

J. Steven Landefeld, Director, Bureau of Economic Analysis.

Gloria A. Gutierrez, Assistant Director for Marketing and Customer Liaison, Bureau of the Census.

International Trade Administration

Henry P. Misisco, Director, Office Of Automotive Affairs.

Susanne S. Lotarski, Director, Office Eastern Europe, Russia, and Independent States.

Nealton J. Burnham, Deputy Assistant Secretary for Export Promotion Services.

Linda Moye-Cheatham, Chief Financial Officer and Director of Administration.

National Oceanic and Atmospheric Administration

Colleen N. Hartman, Deputy Assistant Administrator for Environmental Satellite Data and Information Services, National Environmental Satellite Services.

John E. Oliver, Jr., Deputy Assistant Administrator for Operations, National Marine Fisheries Service.

Helen Hurcombe, Director, Acquisition and Grants Office.

Louisa Koch, Deputy Assistant Administrator for Oceanic and Atmospheric Research, Office of Oceanic and Atmospheric Research.

John E. Jones, Jr., Deputy Assistant Administrator for Weather Services, National Weather Service.

Jamison S. Hawkins, Deputy Assistant Administrator for Ocean and Coastal Zone.

Management, National Ocean Service.

William Brennan, Deputy Assistant Secretary for International Affairs.

National Telecommunications and Information Administration

Robin R. Layton, Associate Administrator, Office of International Affairs.

Technology Administration

Hratch G. Semerjian, Deputy Director, National Institute of Standards and Technology.

Richard F. Kayser, Jr., Director, Technology Services, National Institute of Standards and Technology.

Marilia A. Matos, Deputy Director for Management Services, National Institute of Standards and Technology.

Dated: September 30, 2003.
Janet C. Hoffheins,
Deputy Director for Human Resources Management.

[FR Doc. 03-25380 Filed 10-6-03; 8:45 am]

BILLING CODE 3510-BS-M